DEPARTMENT OF ENERGY

Federal Energy Regulatory Commission

[Docket Nos. CP25-89-000; CP25-90-000]

Northwest Pipeline LLC; Portland General Electric Company; B-R Pipeline, LLC; KB Pipeline Company; Notice of Applications and Establishing Intervention Deadline

Take notice that on February 27, 2025, Northwest Pipeline LLC (Northwest), Post Office Box 1396, Houston, Texas 77251, filed an application under section 7(c) of the Natural Gas Act (NGA) and Part 157 of the Commission's regulations requesting authorization to acquire, own and operate the existing 18-mile-long, 20-inch-diameter Kelso-Beaver Pipeline (KB Pipeline) from joint owners Portland General Electric Company (PGE), KB Pipeline Company (KB), and B-R Pipeline, LLC (B-R). Northwest also requests authorization to expand the KB Pipeline, immediately upon acquisition, by installing a new 5,500 horsepower compressor station in Cowlitz County, Washington and making the KB Pipeline bi-directional (KB Reliability Project or Project). The Project will create 52,400 Dekatherms per day (Dth/d) of firm incremental westbound capacity and 131,000 Dth/d of firm incremental eastbound capacity. Northwest estimates the total cost of the Project to be $60,800,979 and proposes to charge TFL-1 incremental recourse reservation rates for the firm lateral transportation service under the Project, all as more fully set forth in the application which is on file with the Commission and open for public inspection.

In addition, on February 27, 2025, PGE, 121 SW Salmon Street, Portland, Oregon 97204; B-R, 550 West Adams Street, Chicago, Illinois 60661; and KB, 250 SW Taylor Street, Portland, Oregon 97204 (jointly, Applicants) filed an application under section 7(b) of the NGA and Parts 157 and 284 of the Commission's regulations requesting authorization to abandon the KB Pipeline by sale to Northwest, and to abandon their respective Part 157 and Part 284 blanket certificates, all as more fully set forth in the application which is on file with the Commission and open for public inspection.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

Any questions regarding the application in Docket No. CP25-89-000 may be directed to Travis Beach, Sr. Regulatory Analyst, Northwest Pipeline LLC, Post Office Box 1396, Houston, Texas 77251, by phone at (346) 439-0447, or by email at travis.beach@williams.com.

Any questions regarding the application in Docket No. CP25-90-000 should be directed to the following individuals: Justin Mills, Senior Gas Pipeline Program Manager, Portland General Electric, 121 SW Salmon Street, Portland, Oregon 97204, by phone at (503) 464-2957, or by email at justin.mills@pgn.com; Joe Mayette, Senior Manager, Energy, USG Corporation, 550 West Adams Street, Chicago, Illinois 60661, by phone at (312) 436-5882, or by email at jmayette@usg.com; and Scott Johnson, Director of Gas Supply, Northwest Natural Gas Company, 250 SW Taylor Street, Portland, Oregon 97204, by phone at (503) 721-2469, or by email at scott.johnson@nwnatural.com.

Pursuant to section 157.9 of the Commission's Rules of Practice and Procedure,¹ within 90 days of this Notice the Commission staff will either: complete its environmental review and place it into the Commission's public record (eLibrary) for this proceeding; or issue a Notice of Schedule for Environmental Review. If a Notice of Schedule for Environmental Review is issued, it will indicate, among other milestones, the anticipated date for the Commission staff's issuance of the final environmental impact statement (FEIS) or environmental assessment (EA) for this proposal. The filing of an EA in the Commission's public record for this proceeding or the issuance of a Notice of Schedule for Environmental Review will serve to notify federal and state agencies of the timing for the completion of all necessary reviews, and the subsequent need to complete all federal authorizations within 90 days of the date of issuance of the Commission staff's FEIS or EA.

¹ 18 CFR 157.9.

Public Participation

There are three ways to become involved in the Commission's review of this project: you can file comments on the project, you can protest the filing, and you can file a motion to intervene in the proceeding. There is no fee or cost for filing comments or intervening. The deadline for filing a motion to intervene is 5:00 p.m. Eastern Time on April 3, 2025. How to file protests, motions to intervene, and comments is explained below.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comments

Any person wishing to comment on the project may do so. Comments may include statements of support or objections, to the project as a whole or specific aspects of the project. The more specific your comments, the more useful they will be.

Protests

Pursuant to sections 157.10(a)(4) ² and 385.211 ³ of the Commission's regulations under the NGA, any person ⁴ may file a protest to the application. Protests must comply with the requirements specified in section 385.2001 ⁵ of the Commission's regulations. A protest may also serve as a motion to intervene so long as the protestor states it also seeks to be an intervenor.

² 18 CFR 157.10(a)(4).

³ 18 CFR 385.211.

⁴ Persons include individuals, organizations, businesses, municipalities, and other entities. 18 CFR 385.102(d).

⁵ 18 CFR 385.2001.

To ensure that your comments or protests are timely and properly recorded, please submit your comments on or before April 3, 2025.

There are three methods you can use to submit your comments or protests to the Commission. In all instances, please reference the Project docket numbers CP25-89-000 and/or CP25-90-000 in your submission.

(1) You may file your comments electronically by using the eComment feature, which is located on the Commission's website at www.ferc.gov under the link to Documents and Filings. Using eComment is an easy method for interested persons to submit brief, text-only comments on a project;

(2) You may file your comments or protests electronically by using the eFiling feature, which is located on the Commission's website (www.ferc.gov) under the link to Documents and Filings. With eFiling, you can provide comments in a variety of formats by attaching them as a file with your submission. New eFiling users must first create an account by clicking on “eRegister.” You will be asked to select the type of filing you are making; first select “General” and then select “Comment on a Filing”; or

(3) You can file a paper copy of your comments or protests by mailing them to the following address below. Your written comments must reference the Project docket numbers (CP25-89-000 and/or CP25-90-000).

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission encourages electronic filing of comments (options 1 and 2 above) and has eFiling staff available to assist you at (202) 502-8258 or FercOnlineSupport@ferc.gov.

Persons who comment on the environmental review of this project will be placed on the Commission's environmental mailing list, and will receive notification when the environmental documents (EA or EIS) are issued for this project and will be notified of meetings associated with the Commission's environmental review process.

The Commission considers all comments received about the project in determining the appropriate action to be taken. However, the filing of a comment alone will not serve to make the filer a party to the proceeding. To become a party, you must intervene in the proceeding. For instructions on how to intervene, see below.

Interventions

Any person, which includes individuals, organizations, businesses, municipalities, and other entities,⁶ has the option to file a motion to intervene in this proceeding. Only intervenors have the right to request rehearing of Commission orders issued in this proceeding and to subsequently challenge the Commission's orders in the U.S. Circuit Courts of Appeal.

⁶ 18 CFR 385.102(d).

To intervene, you must submit a motion to intervene to the Commission in accordance with Rule 214 of the Commission's Rules of Practice and Procedure ⁷ and the regulations under the NGA ⁸ by the intervention deadline for the project, which is April 3, 2025. As described further in Rule 214, your motion to intervene must state, to the extent known, your position regarding the proceeding, as well as your interest in the proceeding. For an individual, this could include your status as a landowner, ratepayer, resident of an impacted community, or recreationist. You do not need to have property directly impacted by the project in order to intervene. For more information about motions to intervene, refer to the FERC website at https://www.ferc.gov/resources/guides/how-to/intervene.asp.

⁷ 18 CFR 385.214.

⁸ 18 CFR 157.10.

There are two ways to submit your motion to intervene. In both instances, please reference the Project docket numbers CP25-89-000 and/or CP25-90-000 in your submission.

(1) You may file your motion to intervene by using the Commission's eFiling feature, which is located on the Commission's website (www.ferc.gov) under the link to Documents and Filings. New eFiling users must first create an account by clicking on “eRegister.” You will be asked to select the type of filing you are making; first select “General” and then select “Intervention.” The eFiling feature includes a document-less intervention option; for more information, visit https://www.ferc.gov/docs-filing/efiling/document-less-intervention.pdf; or

(2) You can file a paper copy of your motion to intervene, along with three copies, by mailing the documents to the address below. Your motion to intervene must reference the Project docket numbers CP25-89-000 and/or CP25-90-000.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission encourages electronic filing of motions to intervene (option 1 above) and has eFiling staff available to assist you at (202) 502-8258 or FercOnlineSupport@ferc.gov.

Protests and motions to intervene must be served on the Northwest either by mail at: Travis Beach, Sr. Regulatory Analyst, Northwest Pipeline LLC, Post Office Box 1396, Houston, Texas 77251 or by email (with a link to the document) at travis.beach@williams.com. Any subsequent submissions by an intervenor must be served on Northwest and all other parties to the proceeding. Contact information for parties can be downloaded from the service list at the eService link on FERC Online. Service can be via email with a link to the document.

Protests and motions to intervene must be served on the Applicants either by mail at: Justin Mills, Senior Gas Pipeline Program Manager, Portland General Electric, 121 SW Salmon Street, Portland, Oregon 97204; Joe Mayette, Senior Manager, Energy, USG Corporation, 550 West Adams Street, Chicago, Illinois 60661; and Scott Johnson, Director of Gas Supply, Northwest Natural Gas Company, 250 SW Taylor Street, Portland, Oregon 97204; or by email (with a link to the document) at justin.mills@pgn.com, jmayette@usg.com, and scott.johnson@nwnatural.com. Any subsequent submissions by an intervenor must be served on the Applicants and all other parties to the proceeding. Contact information for parties can be downloaded from the service list at the eService link on FERC Online. Service can be via email with a link to the document.

All timely, unopposed ⁹ motions to intervene are automatically granted by operation of Rule 214(c)(1).¹⁰ Motions to intervene that are filed after the intervention deadline are untimely, and may be denied. Any late-filed motion to intervene must show good cause for being late and must explain why the time limitation should be waived and provide justification by reference to factors set forth in Rule 214(d) of the Commission's Rules and Regulations.¹¹ A person obtaining party status will be placed on the service list maintained by the Secretary of the Commission and will receive copies (paper or electronic) of all documents filed by the applicant and by all other parties.

⁹ The applicant has 15 days from the submittal of a motion to intervene to file a written objection to the intervention.

¹⁰ 18 CFR 385.214(c)(1).

¹¹ 18 CFR 385.214(b)(3) and (d).

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Intervention Deadline: 5 p.m. Eastern Time on April 3, 2025.

Dated: March 13, 2025.
Debbie-Anne A. Reese,
Secretary.

[FR Doc. 2025-04702 Filed 3-19-25; 8:45 am]

BILLING CODE 6717-01-P